ENVIRONMENTAL PROTECTION AGENCY

40 CFR Part 300

[EPA-HQ-SFUND-1986-0005; FRL-9982-57—Region 3]

National Oil and Hazardous Substances Pollution Contingency Plan; National Priorities List: Deletion of the Ordnance Works Disposal Areas Superfund Site

AGENCY: Environmental Protection Agency (EPA).

ACTION: Final rule.

SUMMARY: The Environmental Protection Agency (EPA) Region 3 announces the deletion of the Ordnance Works Disposal Areas Superfund Site (Site) located in Morgantown, West Virginia, from the National Priorities List (NPL). The NPL, promulgated pursuant to section 105 of the Comprehensive Environmental Response, Compensation, and Liability Act (CERCLA) of 1980, as amended, is an appendix of the National Oil and Hazardous Substances Pollution Contingency Plan (NCP). The EPA and the State of West Virginia, through the West Virginia Department of Environmental Protection (WVDEP), have determined that all appropriate response actions under CERCLA, other than operation and maintenance, monitoring, and five-year reviews have been completed. However, this deletion does not preclude future actions under Superfund.

DATES: This action is effective August 21, 2018.

ADDRESSES: Docket: EPA has established a docket for this action under Docket Identification No. EPA-HQ-SFUND-1986-0005. All documents in the docket are listed in the http://www.regulations.gov index. Although listed in the index, some information is not publicly available, e.g., Confidential Business Information or other information whose disclosure is restricted by statute. Certain other material, such as copyrighted material, will be publicly available only in the hard copy. Publicly available docket materials are available either electronically in http://www.regulations.gov or in hard copy at:

U.S. EPA Region III, Superfund Records Center, 6th Floor, 1650 Arch Street, Philadelphia, PA 19103-2029; (215) 814-3157, Monday through Friday 8:00 a.m. to 5:00 p.m.

Morgantown Public Library, 373 Spruce Street, Morgantown, WV 26505; (304) 291-7425, Monday through Saturday 9:00 a.m. to 4:00 p.m.

FOR FURTHER INFORMATION CONTACT: Jeffrey Thomas, Remedial Project Manager, U.S. Environmental Protection Agency, Region 3, 3HS23 1650 Arch Street Philadelphia, PA 19103, (215) 814-3377, email thomas.jeffrey@epa.gov.

SUPPLEMENTARY INFORMATION: The site to be deleted from the NPL is: Ordnance Works Disposal Areas, Morgantown, West Virginia. A Notice of Intent to Delete for this Site was published in the Federal Register 83 FR 28586 on June 20, 2018.

The closing date for comments on the Notice of Intent to Delete was July 20, 2018. No public comments were received and EPA believes the deletion action remains appropriate.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: July 31, 2018.
Cosmo Servidio,
Regional Administrator, U.S. Environmental Protection Agency Region 3.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of Appendix B to part 300 is amended by removing “WV”, “Ordnance Works Disposal Areas”, “Morgantown”.

[FR Doc. 2018-18032 Filed 8-20-18; 8:45 am]

BILLING CODE 6560-50-P